DEPARTMENT OF ENERGY

Federal Energy Regulatory Commission

Combined Notice of Filings #1

Take notice that the Commission received the following electric corporate filings:

Docket Numbers: EC12-8-000.

Applicants: Plymouth Rock Energy, LLC.

Description: Application for Approval Under Section 203 of Plymouth Rock Energy, LLC.

Filed Date: 10/13/2011.

Accession Number: 20111013-5161.

Comment Date: 5 p.m. Eastern Time on Thursday, November 03, 2011.

Take notice that the Commission received the following electric rate filings:

Docket Numbers: ER10-1577-001.

Applicants: Dogwood Energy LLC.

Description: Notification of Change in Status of Dogwood Energy LLC.

Filed Date: 10/13/2011.

Accession Number: 20111013-5124.

Comment Date: 5 p.m. Eastern Time on Thursday, November 03, 2011.

Docket Numbers: ER11-4330-001.

Applicants: ISO New England Inc., Vermont Electric Cooperative, Inc.

Description: ISO New England Inc. submits tariff filing per 35.17(b): Supplemental Filing to Schedule 21-VEC Revisions to be effective 4/1/2011.

Filed Date: 10/13/2011.

Accession Number: 20111013-5033.

Comment Date: 5 p.m. Eastern Time on Thursday, November 03, 2011.

Docket Numbers: ER11-4673-002.

Applicants: Air Liquide Large Industries U.S. LP.

Description: Air Liquide Large Industries U.S. LP submits tariff filing per 35: MBR Tariff to be effective 10/12/2011.

Filed Date: 10/13/2011.

Accession Number: 20111013-5125.

Comment Date: 5 p.m. Eastern Time on Thursday, November 03, 2011.

Docket Numbers: ER12-71-000.

Applicants: ISO New England Inc., The United Illuminating Company.

Description: ISO New England Inc. submits tariff filing per 35.13(a)(2)(iii: United Illuminating Company Schedule 21 Tariff Revisions to be effective 12/1/2011.

Filed Date: 10/13/2011.

Accession Number: 20111013-5038.

Comment Date: 5 p.m. Eastern Time on Thursday, November 03, 2011.

Docket Numbers: ER12-72-000.

Applicants: Public Service Company of New Mexico.

Description: Public Service Company of New Mexico submits tariff filing per 35.13(a)(2)(iii: PNM Revised NITSA and Revised NOA with Navopache Electric Cooperative to be effective 11/14/2011.

Filed Date: 10/13/2011.

Accession Number: 20111013-5137.

Comment Date: 5 p.m. Eastern Time on Thursday, November 03, 2011.

Docket Numbers: ER12-73-000.

Applicants: Pacific Gas and Electric Company.

Description: Pacific Gas and Electric Company submits tariff filing per 35.13(a)(2)(iii: Section 205 Filing to Recover Abandonment Costs and TO Tariff Modification to be effective 12/13/2011.

Filed Date: 10/13/2011.

Accession Number: 20111013-5146.

Comment Date: 5 p.m. Eastern Time on Thursday, November 03, 2011.

Docket Numbers: ER12-74-000.

Applicants: Southwest Power Pool, Inc.

Description: Southwest Power Pool, Inc. submits tariff filing per 35.13(a)(2)(iii: Incorporate Formulaic Process to Update Transmission Owner Formula Rates to be effective 12/13/2011.

Filed Date: 10/13/2011.

Accession Number: 20111013-5151.

Comment Date: 5 p.m. Eastern Time on Thursday, November 03, 2011.

Docket Numbers: ER12-75-000.

Applicants: Public Power & Utility, Inc.

Description: Public Power & Utility, Inc. submits tariff filing per 35.1: Market Based Rate Tariff Baseline to be effective 10/13/2011.

Filed Date: 10/14/2011.

Accession Number: 20111014-5000.

Comment Date: 5 p.m. Eastern Time on Friday, November 04, 2011.

Docket Numbers: ER12-75-001.

Applicants: Public Power & Utility, Inc.

Description: Public Power & Utility, Inc. submits tariff filing per 35: Revised Tariff to be effective 10/13/2011.

Filed Date: 10/14/2011.

Accession Number: 20111014-5002.

Comment Date: 5 p.m. Eastern Time on Friday, November 04, 2011.

Docket Numbers: ER12-76-000.

Applicants: Pacific Gas and Electric Company.

Description: Pacific Gas and Electric Company submits tariff filing per 35.13(a)(2)(iii: Balancing Account Update 2012 (TRBAA, RSBAA, and ECRBAA) to be effective 1/1/2012.

Filed Date: 10/14/2011.

Accession Number: 20111014-5005.

Comment Date: 5 p.m. Eastern Time on Friday, November 04, 2011.

Docket Numbers: ER12-77-000.

Applicants: California Independent System Operator Corporation.

Description: Petition for Approval of Disposition of Proceeds of Penalty Assessment of the California Independent System Operator Corporation.

Filed Date: 10/13/2011.

Accession Number: 20111013-5164.

Comment Date: 5 p.m. Eastern Time on Thursday, November 03, 2011.

Docket Numbers: ER12-78-000.

Applicants: Carolina Power & Light Company.

Description: Carolina Power & Light Company submits tariff filing per 35.13(a)(2)(iii: Rate Schedule No. 134 of Carolina Power and Light Company to be effective 12/13/2011.

Filed Date: 10/14/2011.

Accession Number: 20111014-5030.

Comment Date: 5 p.m. Eastern Time on Friday, November 04, 2011.

Docket Numbers: ER12-79-000.

Applicants: Carolina Power & Light Company.

Description: Carolina Power & Light Company submits tariff filing per 35.13(a)(2)(iii: Revised Rate Schedule No. 173 of Carolina Power and Light Company to be effective 12/13/2011.

Filed Date: 10/14/2011.

Accession Number: 20111014-5031.

Comment Date: 5 p.m. Eastern Time on Friday, November 04, 2011.

Docket Numbers: ER12-80-000.

Applicants: Carolina Power & Light Company.

Description: Carolina Power & Light Company submits tariff filing per 35.13(a)(2)(iii: Revised Rate Schedule No. 182 of Carolina Power and Light Company to be effective 12/13/2011.

Filed Date: 10/14/2011.

Accession Number: 20111014-5033.

Comment Date: 5 p.m. Eastern Time on Friday, November 04, 2011.

Docket Numbers: ER12-81-000.

Applicants: Public Service Company of Colorado.

Description: Notice of Termination of Service Agreement 280-PSCo bewteen PSCo and TSGT.

Filed Date: 10/14/2011.

Accession Number: 20111014-5072.

Comment Date: 5 p.m. Eastern Time on Friday, November 04, 2011.

Docket Numbers: ER12-82-000.

Applicants: Public Service Company of Colorado.

Description: Public Service Company of Colorado submits tariff filing per 35.13(a)(2)(iii: 2011-10-14_PSCo_WAPA Malta SS Maint Agrmt 319 to be effective 10/15/2011.

Filed Date: 10/14/2011.

Accession Number: 20111014-5076.

Comment Date: 5 p.m. Eastern Time on Friday, November 04, 2011.

Take notice that the Commission received the following electric securities filings:

Docket Numbers: ES11-48-000.

Applicants: Kentucky Utilities Company.

Description: Amendment to Application of Kentucky Utilities Company.

Filed Date: 10/05/2011.

Accession Number: 20111005-5115.

Comment Date: 5 p.m. Eastern Time on Monday, October 24, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2011.
Nathaniel J. Davis, Sr.,
Deputy Secretary.

[FR Doc. 2011-27315 Filed 10-21-11; 8:45 am]

BILLING CODE 6717-01-P